DEPARTMENT OF DEFENSE

GENERAL SERVICES ADMINISTRATION

NATIONAL AERONAUTICS AND SPACE ADMINISTRATION

48 CFR Part 19

[FAC 2005-76; FAR Case 2012-014; Correction; Docket 2012-0014, Sequence 1]

RIN 9000-AM46

Federal Acquisition Regulation; Small Business Protests and Appeals; Correction

AGENCIES: Department of Defense (DoD), General Services Administration (GSA), and National Aeronautics and Space Administration (NASA).

ACTION: Final rule; correction.

SUMMARY: DoD, GSA, and NASA are issuing a correction to FAR Case 2012-014; Small Business Protests and Appeals (Item II), which was published in the Federal Register on July 25, 2014.

DATES: Effective: August 25, 2014.

FOR FURTHER INFORMATION CONTACT: Mr. Karlos Morgan, Procurement Analyst, at 202-501-2364, for clarification of content. For information pertaining to status or publication schedules, contact the Regulatory Secretariat at 202-501- 4755. Please cite FAC 2005-76, FAR Case 2012-014; Correction.

SUPPLEMENTARY INFORMATION: DoD, GSA, and NASA published a document in the Federal Register at 79 FR 43580, July 25, 2014, inadvertently, section heading 19.307 is incorrectly stated.

Correction

In rule FR Doc. 2014-17499 published in the Federal Register at 79 FR 43580, July 25, 2014 make the following correction:

On page 43586, in the first column, section 19.307, section heading, correct “Protecting” to read “Protesting”.

Authority: 40 U.S.C. 121(c); 10 U.S.C. chapter 137; and 51 U.S.C. 20113.

Dated: August 4, 2014.
William Clark,
Acting Director, Office of Government-wide Acquisition Policy, Office of Acquisition Policy, Office of Government-wide Policy.

[FR Doc. 2014-18803 Filed 8-7-14; 8:45 am]

BILLING CODE 6820-EP-P